DEPARTMENT OF ENERGY

Federal Energy Regulatory Commission

Combined Notice of Filings #1

February 12, 2009.

Take notice that the Commission received the following electric rate filings:

Docket Numbers: ER99-845-015

Applicants: Puget Sound Energy, Inc.

Description: Notice of Non-Material Change in Status.

Filed Date: 02/04/2009

Accession Number: 20090204-5162

Comment Date: 5 p.m. Eastern Time on Wednesday, February 25, 2009.

Docket Numbers: ER00-586-007.

Applicants: Madison Gas & Electric Company.

Description: Madison Gas & Electric submits Market-Based Power Sales Tariff, Second Revised Volume 4.

Filed Date: 02/09/2009.

Accession Number: 20090211-0198.

Comment Date: 5 p.m. Eastern Time on Monday, March 2, 2009.

Docket Numbers: ER00-3412-008; ER00-2687-010; ER00-816-006; ER05-53-009; ER04-8-007; ER98-2440-007; ER98-3285-005; ER05-638-002; ER05-1482-003.

Applicants: Ameren Energy Generating Company, Ameren Energy Marketing Company, AmerenEnergy Resources Generating Company, AmerenEnergy Medina Valley Cogen, LLC, Central Illinois Light Company, Central Illinois Public Service Company, Illinois Power Company, Union Electric Company.

Description: Ameren Services Company submits a supplement to its 12/24/08 filing of an updated market power analysis.

Filed Date: 02/06/2009.

Accession Number: 20090210-0073.

Comment Date: 5 p.m. Eastern Time on Friday, February 27, 2009.

Docket Numbers: ER01-205-033; ER98-2640-031

Applicants: Xcel Energy Services Inc.; Northern States Power Company-Wisconsin.

Description: NSP Companies submits a supplement to its updated market power analysis which reflects the results of the revised SIL Study.

Filed Date: 02/06/2009.

Accession Number: 20090210-0071.

Comment Date: 5 p.m. Eastern Time on Friday, February 27, 2009.

Docket Numbers: ER01-2636-005.

Applicants: ALLETE, Inc.

Description: Minnesota Power submits Supplemental Joint Affidavit of Rodney Frame and Donna Lau Brooks to update their original testimony submitted on 12/31/08 re the Revised Simultaneous Import Limit Estimates for Triennial Market Analysis.

Filed Date: 02/06/2009.

Accession Number: 20090210-0069.

Comment Date: 5 p.m. Eastern Time on Friday, February 27, 2009.

Docket Numbers: ER01-1403-010; ER01-2968-011; ER01-845-009; ER04-366-008; ER05-1122-007; ER06-1443-006; ER08-107-004.

Applicants: FirstEnergy Operating Companies, Pennsylvania Power Company, Jersey Central Power & Light Co., FirstEnergy Solutions Corp., FirstEnergy Generation Corporation, FirstEnergy Nuclear Generation Corporation, FirstEnergy Generation Mansfield Unit 1.

Description: FirstEnergy Corp submits revised indicative market power screen analysis for the wholesale electricity market etc.

Filed Date: 02/06/2009.

Accession Number: 20090210-0075.

Comment Date: 5 p.m. Eastern Time on Friday, February 27, 2009.

Docket Numbers: ER05-1491-002.

Applicants: Vermont Yankee Nuclear Power Corporation.

Description: Vermont Yankee Nuclear Power Corporation submits amendment to their 12/12/08 filing of an updated market power analysis etc.

Filed Date: 02/05/2009.

Accession Number: 20090210-0037.

Comment Date: 5 p.m. Eastern Time on Thursday, February 26, 2009.

Docket Numbers: ER08-1392-001.

Applicants: Fowler Ridge III Wind Farm LLC.

Description: Fowler Ridge III Wind Farm LLC submits Original Sheet 1 to FERC Electric Tariff, Original Volume 1.

Filed Date: 02/09/2009.

Accession Number: 20090211-0013.

Comment Date: 5 p.m. Eastern Time on Monday, March 2, 2009.

Docket Numbers: ER08-1443-001.

Applicants: Noble Great Plains Windpark, LLC.

Description: Notification of Non-Material Change in Status of Noble Great Plains Windpark, LLC under ER08-1443.

Filed Date: 02/06/2009.

Accession Number: 20090206-5073.

Comment Date: 5 p.m. Eastern Time on Friday, February 27, 2009.

Docket Numbers: ER09-88-001.

Applicants: Southern Company Services, Inc.

Description: Supplemental Compliance Filing of Southern Company Services, Inc.

Filed Date: 02/02/2009.

Accession Number: 20090202-5122.

Comment Date: 5 p.m. Eastern Time on Monday, February 23, 2009.

Docket Numbers: ER09-262-002.

Applicants: Southwest Power Pool, Inc.

Description: Southwest Power Pool, Inc submits timeline for the completion of pending interconnection requests in the two proposed clusters.

Filed Date: 02/09/2009.

Accession Number: 20090211-0012.

Comment Date: 5 p.m. Eastern Time on Monday, March 2, 2009.

Docket Numbers: ER09-561-000.

Applicants: Midwest Independent Transmission System Operator, Inc.

Description: Midwest Independent Transmission System Operator, Inc submits supplemental filing to provide notice of payment default etc.

Filed Date: 02/04/2009.

Accession Number: 20090209-0133.

Comment Date: 5 p.m. Eastern Time on Wednesday, February 25, 2009.

Docket Numbers: ER09-563-001.

Applicants: PJM Interconnection, LLC.

Description: PJM Interconnection, LLC submits an errata to correct a typographical error in its 1/21/09 filing which included an executed interim interconnection service agreement with Virginia Electric and Power Co.

Filed Date: 02/05/2009.

Accession Number: 20090206-0242.

Comment Date: 5 p.m. Eastern Time on Thursday, February 26, 2009.

Docket Numbers: ER09-574-000.

Applicants: Southwest Power Pool, Inc.

Description: Southwest Power Pool, Inc submits Exhibits I and II which was inadvertently omitted from the 1/26/09 Open Access Transmission Tariff intended to modify the transmission and base plan rates for certain pricing zones under SPP's Tariff.

Filed Date: 02/05/2009.

Accession Number: 20090210-0036.

Comment Date: 5 p.m. Eastern Time on Thursday, February 26, 2009.

Docket Numbers: ER09-575-000.

Applicants: Southwest Power Pool, Inc.

Description: Southwest Power Pool. Inc submits supplement to their 1/26/09 filing of revised pages to their Open Access Transmission Tariff.

Filed Date: 02/05/2009.

Accession Number: 20090210-0035.

Comment Date: 5 p.m. Eastern Time on Thursday, February 26, 2009.

Docket Numbers: ER09-659-000.

Applicants: Southwest Power Pool, Inc.

Description: Southwest Power Pool, Inc submits an executed Letter Agreement regarding Inter-Regional Planning with Entergy Services, Inc.

Filed Date: 02/06/2009.

Accession Number: 20090209-0202.

Comment Date: 5 p.m. Eastern Time on Friday, February 27, 2009.

Docket Numbers: ER09-663-000.

Applicants: Xcel Energy Services Inc.

Description: Public Service Company of Colorado submits Fourth Revised Sheet 8 et al. to FERC Electric Tariff, First Revised Volume 1, to be effective 4/7/09.

Filed Date: 02/06/2009.

Accession Number: 20090209-0117.

Comment Date: 5 p.m. Eastern Time on Friday, February 27, 2009.

Docket Numbers: ER09-664-000.

Applicants: Reliant Energy Wholesale Generation, LLC.

Description: Reliant Energy Wholesale Generation, LLC submits a Notice of Succession with respect to Seward's Rate Schedule FERC 2 etc.

Filed Date: 02/06/2009.

Accession Number: 20090210-0164.

Comment Date: 5 p.m. Eastern Time on Friday, February 27, 2009.

Docket Numbers: ER09-665-000.

Applicants: Wellhead Power eXchange, LLC.

Description: Wellhead Power eXchange, LLC submits its proposed initial market-based rate tariff, FERC Electric Tariff 1, pursuant to which Applicant proposes to provide power marketing services.

Filed Date: 02/10/2009.

Accession Number: 20090212-0196.

Comment Date: 5 p.m. Eastern Time on Tuesday, March 3, 2009.

Docket Numbers: ER09-673-000.

Applicants: Virtual Energy, Incorporated.

Description: Virtual Energy, Incorporated submits a Notice of Cancellation of FERC Electric Tariff, Original Volume 1.

Filed Date: 02/09/2009.

Accession Number: 20090210-0276.

Comment Date: 5 p.m. Eastern Time on Monday, March 2, 2009.

Docket Numbers: ER09-674-000.

Applicants: ZZ Corporation.

Description: ZZ Corporation submits a notice of cancellation of its FERC Electric Tariff, Original Volume 1, to be effective 2/1/09.

Filed Date: 02/09/2009.

Accession Number: 20090210-0275.

Comment Date: 5 p.m. Eastern Time on Monday, March 2, 2009.

Docket Numbers: ER09-675-000.

Applicants: Southeast Chicago Energy Project, LLC.

Description: Southeast Chicago Energy Project, LLC submits Notice of Cancellation of First Revised Rate Schedule FERC 1, effective 1/1/09.

Filed Date: 02/09/2009.

Accession Number: 20090210-0274.

Comment Date: 5 p.m. Eastern Time on Monday, March 2, 2009.

Docket Numbers: ER09-676-000.

Applicants: Brownsville Power I. L.L.C.

Description: Brownsville Power I, LLC submits Notice of Cancellation of their FERC Electric Tariff, First Revised Volume 1, effective 4/10/09.

Filed Date: 02/09/2009.

Accession Number: 20090210-0273.

Comment Date: 5 p.m. Eastern Time on Monday, March 2, 2009.

Docket Numbers: ER09-677-000.

Applicants: AmerGen Energy Company LLC.

Description: AmerGen Energy Company, LLC submits Notices of Cancellation of Rate Schedule FERC 2 et al., FERC Electric Tariff 1 pursuant to Order 614.

Filed Date: 02/09/2009.

Accession Number: 20090210-0272.

Comment Date: 5 p.m. Eastern Time on Monday, March 2, 2009.

Docket Numbers: ER09-678-000.

Applicants: Ameren Services Company as Agent for Ill.

Description: Illinois Power Co submits an executed service agreement for Wholesale Distribution Service with Prairie Power, Incorporated.

Filed Date: 02/09/2009.

Accession Number: 20090210-0271.

Comment Date: 5 p.m. Eastern Time on Monday, March 2, 2009.

Docket Numbers: ER09-679-000.

Applicants: Ameren Services Company.

Description: Ameren Services Company on behalf of Central Illinois Light Company et al. submits the Amended Transmission Interconnection Agreement with City of Springfield, IL.

Filed Date: 02/09/2009.

Accession Number: 20090210-0270.

Comment Date: 5 p.m. Eastern Time on Monday, March 2, 2009.

Docket Numbers: ER09-681-000.

Applicants: Green Power Express LP.

Description: Green Power Express LP submits their request for privileged treatment of information related to transfer flows between regions contained in Exhibit GPA-401, Slides 34-36.

Filed Date: 02/09/2009.

Accession Number: 20090211-0034.

Comment Date: 5 p.m. Eastern Time on Monday, March 2, 2009.

Docket Numbers: ER09-682-000.

Applicants: Entergy Services, Inc.

Description: Entergy Arkansas, Inc. submits an executed Agreement for Transmission Work with Oklahoma Gas & Electric Co.

Filed Date: 02/10/2009.

Accession Number: 20090211-0007.

Comment Date: 5 p.m. Eastern Time on Tuesday, March 3, 2009.

Docket Numbers: ER09-684-000.

Applicants: Public Service Company of New Mexico.

Description: Public Service Company of New Mexico submits a transmission service agreement with Cargill Power Markets, LLC under the PNM Open Access Transmission Tariff.

Filed Date: 02/10/2009.

Accession Number: 20090212-0194.

Comment Date: 5 p.m. Eastern Time on Tuesday, March 3, 2009.

Docket Numbers: ER09-685-000.

Applicants: American Electric Power Service Corporation.

Description: AEP Operating Companies requests acceptance of a ninth revision to the Interconnection and Local Delivery Agreement with Blue Ridge Power Authority.

Filed Date: 02/10/2009.

Accession Number: 20090212-0195.

Comment Date: 5 p.m. Eastern Time on Tuesday, March 3, 2009.

Docket Numbers: ER09-686-000.

Applicants: New York Independent System Operator, Inc.

Description: New York Independent System Operator, Inc. submits proposed revisions to its Market Administration and Control Area Services Tariff and its Open Access Transmission Tariff etc.

Filed Date: 02/10/2009.

Accession Number: 20090212-0197.

Comment Date: 5 p.m. Eastern Time on Tuesday, March 3, 2009.

Docket Numbers: ER09-701-000.

Applicants: PJM Interconnection L.L.C.

Description: PJM Interconnection, LLC submits revisions to Schedule 1 of the Amended and Restated Operating Agreement of PJM as well as the parallel provisions of the Appendix to Attachment K of their Open Access Transmission Tariff.

Filed Date: 02/10/2009.

Accession Number: 20090212-0198.

Comment Date: 5 p.m. Eastern Time on Tuesday, March 3, 2009.

Take notice that the Commission received the following electric securities filings:

Docket Numbers: ES09-18-000.

Applicants: Rockland Electric Company.

Description: Application under Section 204 of Rockland Electric Company for authorization to issue and sell short-term debt not in excess of $30 million.

Filed Date: 02/10/2009.

Accession Number: 20090210-5118.

Comment Date: 5 p.m. Eastern Time on Tuesday, March 3, 2009.

Take notice that the Commission received the following open access transmission tariff filings:

Docket Numbers: OA08-59-004.

Applicants: Entergy Services, Inc.

Description: Entergy Operating Companies submits revisions to Attachment K of its Open Access Transmission Tariff in accordance with the Commission's 9/18/08 Order.

Filed Date: 02/06/2009.

Accession Number: 20090210-0269.

Comment Date: 5 p.m. Eastern Time on Friday, February 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-3572 Filed 2-19-09; 8:45 am]

BILLING CODE 6717-01-P